DEPARTMENT OF HOMELAND SECURITY

Coast Guard

33 CFR Part 165

[Docket No. USCG-2019-0446]

Safety Zone; Lake Pontchartrain, Mandeville, LA

AGENCY: Coast Guard, DHS.

ACTION: Notice of enforcement of regulation.

SUMMARY: The Coast Guard will enforce a temporary safety zone for a fireworks display located on the navigable waters of Lake Pontchartrain near Mandeville, LA. This action is needed to provide for the safety of life on these navigable waterways during this event. During the enforcement period, the operator of any vessel in the safety zone must comply with directions from the Captain of the Port Sector New Orleans or a designated representative.

DATES: The regulations in 33 CFR 165.801, Table 5, line 16, will be enforced from 8:30 p.m. through 9:30 p.m. on June 29, 2019.

FOR FURTHER INFORMATION CONTACT: If you have questions about this notice of enforcement, call or email Lieutenant Commander Benjamin Morgan, Sector New Orleans, U.S. Coast Guard; telephone 504-365-2281, email Benjamin.P.Morgan@uscg.mil.

SUPPLEMENTARY INFORMATION: The Coast Guard will enforce a temporary safety zone in 33 CFR 165.801, Table 5, line 16, for the Mandeville 4th of July fireworks display event. This regulation will be enforced from 8:30 p.m. through 9:30 p.m. on June 29, 2019. This action is needed to provide for the safety of life on these navigable waterways during this event. Our regulation for marine events within the Eighth Coast Guard District, 33 CFR 165.801, specifies the location of the regulated area on Lake Pontchartrain near Mandeville, LA. The fireworks display barge will be at the approximate position, 30°21′12.03″ N 90°04′28.95″ W. During the enforcement period, as reflected in § 165.801, if you are the operator of a vessel in the temporary safety zone, you must comply with directions from the Captain of the Port Sector New Orleans or a designated representative.

In addition to this notice of enforcement in the Federal Register, the Coast Guard plans to provide notification of this enforcement period via a Broadcast Notice to Mariners.

Dated: June 6, 2019.
K.M. Luttrell,
Captain, U.S. Coast Guard, Captain of the Port Sector New Orleans.

[FR Doc. 2019-12705 Filed 6-14-19; 8:45 am]

BILLING CODE 9110-04-P